DEPARTMENT OF ENERGY

Federal Energy Regulatory Commission

Combined Notice of Filings

Take notice that the Commission has received the following Natural Gas Pipeline Rate and Refund Report filings:

Filings Instituting Proceedings

Docket Numbers: RP12-261-000.

Applicants: Columbia Gas Transmission, LLC.

Description: Environmental Filing 2011 to be effective 2/1/2012.

Filed Date: 12/28/11.

Accession Number: 20111228-5036.

Comments Due: 5 p.m. ET 1/9/12.

Docket Numbers: RP12-262-000.

Applicants: Midwestern Gas Transmission Company.

Description: RPAL Modification to be effective 1/27/2012.

Filed Date: 12/28/11.

Accession Number: 20111228-5088.

Comments Due: 5 p.m. ET 1/9/12.

Docket Numbers: RP12-263-000.

Applicants: Trailblazer Pipeline Company LLC.

Description: CIMA Negotiated Rate Filing to be effective 1/1/2012.

Filed Date: 12/29/11.

Accession Number: 20111229-5167.

Comments Due: 5 p.m. ET 1/10/12.

Docket Numbers: RP12-264-000.

Applicants: Trailblazer Pipeline Company LLC.

Description: Concord Negotiated Rate Filing to be effective 1/1/2012.

Filed Date: 12/29/11.

Accession Number: 20111229-5168.

Comments Due: 5 p.m. ET 1/10/12.

Docket Numbers: RP12-265-000.

Applicants: Columbia Gas Transmission, LLC.

Description: Environmental Filing 2011 Errata to be effective 2/1/2012.

Filed Date: 12/29/11.

Accession Number: 20111229-5169.

Comments Due: 5 p.m. ET 1/10/12.

Docket Numbers: RP12-266-000.

Applicants: Trailblazer Pipeline Company LLC.

Description: Negotiated Rate Filing—MIECO to be effective 1/1/2012.

Filed Date: 12/29/11.

Accession Number: 20111229-5170.

Comments Due: 5 p.m. ET 1/10/12.

Docket Numbers: RP12-268-000.

Applicants: Florida Gas Transmission Company, LLC.

Description: Annual Accounting Report 12/30/11 to be effective N/A.

Filed Date: 12/30/11.

Accession Number: 20111230-5028.

Comments Due: 5 p.m. ET 1/11/12.

Docket Numbers: RP12-269-000.

Applicants: Algonquin Gas Transmission, LLC.

Description: Con Ed 2012-01-01 Release to be effective 1/1/2012.

Filed Date: 12/30/11.

Accession Number: 20111230-5030.

Comments Due: 5 p.m. ET 1/11/12.

Docket Numbers: RP12-270-000.

Applicants: Sea Robin Pipeline Company, LLC.

Description: Annual Flowthrough Crediting Mechanism 12/30/11 to be effective N/A.

Filed Date: 12/30/11.

Accession Number: 20111230-5045.

Comments Due: 5 p.m. ET 1/11/12.

Docket Numbers: RP12-271-000.

Applicants: Texas Eastern Transmission, LP.

Description: EPC FEB 2012 FILING to be effective 2/1/2012.

Filed Date: 12/30/11.

Accession Number: 20111230-5049.

Comments Due: 5 p.m. ET 1/11/12.

Docket Numbers: RP12-272-000.

Applicants: Northern Natural Gas Company.

Description: 20111230 Negotiated Rate to be effective 1/1/2012.

Filed Date: 12/30/11.

Accession Number: 20111230-5052.

Comments Due: 5 p.m. ET 1/11/12.

Docket Numbers: RP12-273-000.

Applicants: Iroquois Gas Transmission System, L.P.

Description: 12/30/11 Negotiated Rates—Citigroup Energy—Amendment 3 to be effective 1/1/2012.

Filed Date: 12/30/11.

Accession Number: 20111230-5103.

Comments Due: 5 p.m. ET 1/11/12.

Docket Numbers: RP12-274-000.

Applicants: Iroquois Gas Transmission System, L.P.

Description: Report of Iroquois Gas Transmission System, L.P. under RP12-274, Measurement Variance/Fuel Use Factors utilized by Iroquois during the period July 1, 2011 through December 31, 2011.

Filed Date: 12/30/11.

Accession Number: 20111230-5106.

Comments Due: 5 p.m. ET 1/11/12.

Docket Numbers: RP12-275-000.

Applicants: Dominion Cove Point LNG, LP.

Description: DCP—Liquefaction Modifications to be effective 1/1/2012.

Filed Date: 12/30/11.

Accession Number: 20111230-5165.

Comments Due: 5 p.m. ET 1/11/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-223-001.

Applicants: Guardian Pipeline, LLC.

Description: Sequent Amendment to be effective 5/1/2011.

Filed Date: 12/29/11.

Accession Number: 20111229-5118.

Comments Due: 5 p.m. ET 1/10/12.

Docket Numbers: RP11-2168-002.

Applicants: Trailblazer Pipeline Company LLC.

Description: Expansion Fuel Filing to be effective 1/1/2012.

Filed Date: 12/30/11.

Accession Number: 20111230-5004.

Comments Due: 5 p.m. ET 1/11/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 3, 2012.
Nathaniel J. Davis, Sr.
Deputy Secretary

[FR Doc. 2012-116 Filed 1-6-12; 8:45 am]

BILLING CODE 6717-01-P